DEPARTMENT OF TRANSPORTATION

Federal Aviation Administration

Third Meeting, Special Committee 213/EUROCAE: Enhanced Flight Vision Systems/Synthetic Vision Systems (EFVS/SVS), EUROCAE Working Group 79 (WG-79)

AGENCY: Federal Aviation Administration (FAA), DOT.

ACTION: Notice of RTCA Special Committee 213/EUROCAE, Enhanced Flight Vision Systems/Synthetic Vision Systems (EFVS/SVS), EUROCAE Working Group 79 (WG-79).

SUMMARY: The FAA is issuing this notice to advise the public of a third meeting of RTCA Special Committee 213, Standards for Air Traffic Data Communication Services.

DATES: The meeting will be held January 27-29, 2009 from 9 a.m.-5 p.m.

ADDRESSES: The meeting will be held at Cessna Conference Center Auditorium, (Located in the Cessna Employees Fitness Center), 6711 West 31st Street South, Wichita, KS 67215.

SUPPLEMENTARY INFORMATION: Pursuant to section 10(a)(2) of the Federal Advisory Committee Act (Pub. L. 92-463, 5 U.S.C., Appendix 2), notice is hereby given for a Special Committee 213 meeting. The agenda will include:

January 27

• Welcome, Introductions, and Agenda Review—Patrick, Tim, David—15 minutes

• Review and approve SC-213/WG-79 Minutes—Patrick, Tim, David—15 minutes

• Items:

• General objectives of this meeting:

• Develop Advanced Vision System CONOPS

• Discuss work plan for synthetic and enhanced vision technologies

• Proposed amendment to Terms of Reference—Lou—15 minutes

• Conduct of meeting: Addressing issues, documenting issues, resolving issues, assignment of action items

• Administrative: Begin thinking of follow-on meeting dates

• Status of PMC decision on the MASPS document

January 28

Continuation of meeting to discuss Advanced Vision System CONOPS, as required.

January 29

• Conclude discussion of Advanced Vision System CONOPS

• New Business

• Summary and announcement of next meeting dates and locations

• Feedback

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 5, 2008.
Francisco Estrada C.,
RTCA Advisory Committee.

[FR Doc. E8-29540 Filed 12-12-08; 8:45 am]

BILLING CODE 4910-13-P